DEPARTMENT OF HEALTH AND HUMAN SERVICES

Administration for Children and Families

[OMB #0970-0531]

Submission for OMB Review; Formative Data Collections for ACF Program Support

AGENCY: Office of Planning, Research, and Evaluation, Administration for Children and Families, HHS.

ACTION: Request for public comment.

SUMMARY: The Administration for Children and Families (ACF) plans to submit a request to the Office of Management and Budget (OMB) to extend approval of the existing overarching generic clearance for Formative Data Collections for ACF Program Support (OMB #0970-0531; expiration date 7/31/2022). ACF proposes minor updates to the description of potential generic information collections under the overarching generic and to the estimated number of respondents.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION: Description: The goals of the generic information collections under this approval are to obtain information about program and grantee processes or needs and to inform the following types of activities, among others:

• Delivery of targeted assistance and/or workflows related to program and grantee processes. This could include the development and refinement of recordkeeping and communication systems.

• Planning for provision of programmatic or evaluation-related training or technical assistance (T/TA).

• Obtaining input on the development of program performance measures from grantees or others with experience or vested interest.

• Obtaining feedback about processes and/or practices to inform ACF program development or support, or ACF research.

• Use of rapid-cycle testing activities to strengthen programs in preparation for summative evaluations.

• Creating public resources with information about ACF-funded programs, systems, or activities.

ACF uses a variety of techniques such as semi-structured discussions, focus groups, surveys, templates, open-ended requests, and telephone or in-person interviews in order to reach these goals.

Information collected under this overarching generic is meant to inform ACF activities and may be incorporated into documents or presentations that are made public such as through conference presentations, websites, or social media. The following are some examples of ways in which we may share information resulting from these data collections: technical assistance plans, presentations, infographics, project specific reports, or other documents relevant to those involved with or interested in ACF programs such as federal leadership and staff, grantees, local implementing agencies, and/or T/TA providers.

Information may also be used to create public resources for users (clients, programs, researchers). Following standard OMB requirements, the Office of Planning, Research, and Evaluation will submit a change request for each individual data collection activity under this generic clearance. Each request will include the individual instrument(s), a justification specific to the individual information collection, and any supplementary documents. OMB should review requests within 10 days of submission.

The proposed types and the purpose of generic information collections submitted under this umbrella generic remain the same. Minor revisions are based on experiences over the past 3 years. These include:

• Updated burden estimates

• Broadened the description to make clearer the intention to broadly include respondents with knowledge, experience, or interest in ACF programs to allow ACF to learn about needs and processes related to ACF programs from those not necessarily funded by ACF

• Included specification about requesting information for efforts to consolidate publicly available information to build public resources for ACF programs, grantees, clients, or others who may use or be interested in services funded by ACF.

Respondents: Example respondents include current or prospective service providers, training or T/TA providers, grantees, contractors, current and potential participants in ACF programs or similar comparison groups, experts in fields pertaining to ACF programs, key groups involved in ACF projects and programs, individuals engaged in program re-design or demonstration development for evaluation, state or local government officials, or others involved in or prospectively involved in ACF programs.

Burden Estimates

At the time of this extension request, 30 GenICs are ongoing, with a total of 13,652 burden hours. See Attachment B for a list of all previously approved, ongoing GenICs. The following estimates are specific to new collections over the next three years.

Instrument | Number of respondents (total over request period) | Number of responses per respondent (total over request period) | Average burden per response (in hours) | Total burden (in hours)
Semi-Structured Discussions and Focus Groups | 10,000 | 1 | 2 | 20,000
Interviews | 4,500 | 1 | 1 | 4,500
Questionnaires/Surveys | 8,000 | 1.5 | .5 | 6,000
Templates and Open-ended Requests | 1,000 | 1 | 10 | 10,000

Estimated Total Annual Burden Hours: 40,500.

Authority: Social Security Act, Sec. 1110 [42 U.S.C. 1310].

Mary B. Jones,
ACF/OPRE Certifying Officer.

[FR Doc. 2022-14896 Filed 7-12-22; 8:45 am]

BILLING CODE 4184-79-P